DEPARTMENT OF VETERANS AFFAIRS

Advisory Committee on Minority Veterans; Notice of Meeting

The Department of Veterans Affairs (VA) gives notice under the Public Law 92-463 (Federal Advisory Committee Act) that a meeting of the Advisory Committee on Minority Veterans will be held from April 3-6, 2006, at the VA Greater Los Angeles Healthcare System (GLAHCS), the VA Regional Office in Los Angeles, California, and the VA Long Beach Healthcare System in Long Beach, California. The meeting is open to the public.

The purpose of the Committee is to advise the Secretary on the administration of VA benefits and services to minority veterans, to assess the needs of minority veterans and to evaluate whether VA compensation, medical and rehabilitation services, outreach, and other programs are meeting those needs. The Committee will make recommendations to the Secretary regarding such activities.

On April 3, the Committee will meet at the Greater Los Angeles Health Care System, VA Medical Center (VAMC), Executive Conference Room, 11301 Wilshire Blvd, Los Angeles, California, from 8 a.m. until 3:30 p.m. The Director will brief the Committee on services and benefit delivery challenges, successes and concerns in serving minority veterans. Following these discussions, the Committee will be briefed on how the VAMC conducts its outreach initiatives, activities and programs within the minority communities. Starting at noon the Committee will receive a briefing and tour the New Directions training facility, located at VAMC Building 116. From 1:30 p.m. to 3:30 p.m. the Committee will receive a briefing and tour of the Mental Health Outpatient Treatment Center located in GLAHCS VAMC Building 206.

On April 4, the Committee will meet from 8:30 a.m. to 10 a.m. at the VA Regional Office (VARO) Executive Conference Room, located at the Federal Building, 11000 Wilshire Blvd, Los Angeles. The VARO Director and key staff members will brief the Committee on their outreach activities, challenges and initiatives in providing benefit services to minority veterans within the communities they serve, followed by a tour of the Regional Office. Following these discussions, the Committee will hold a working lunch with the Veteran Service Organizations from the Greater Los Angeles area to discuss their concerns, assessments and observations of minority veterans needs. This meeting will be held from 11 a.m. to 12:30 p.m. at the VA Regional Office, Room 7106. At 1:30 p.m. the Committee will visit the Los Angeles Ambulatory Care Center located at 351 E. Temple Street, Los Angeles to receive a briefing and tour of the facility. During the evening, from 6 p.m. to 8 p.m., the Committee will conduct a town hall meeting at the Patriotic Hall, located at 1816 S. Figueroa Street.

On April 5, the Committee's morning session will be held at the Los Angeles National Cemetery, 950 South Sepulveda Blvd., Los Angeles, in the Executive Conference Room, from 10 a.m. to 12 p.m. The Committee will be briefed by the Cemetery Director on minority veteran outreach and significant issues in addressing minority veteran concerns. This discussion will be followed by a guided tour of the grounds and facility. The Committee's afternoon meeting from 1:30 p.m. to 3 p.m., will be held at the GLAHCS VAMC Executive Conference Room and will focus on health care disparities, with a presentation by Dr. Nancy Harada, Research Physical Therapist, GLAHCS VAMC.

On April 6, the Committee will conduct its meetings at the VA Long Beach Health Care System (HCS) Executive Conference Room located at 5901 7th Street, Long Beach. The meeting will begin at 10 with a briefing from the Veteran Integrated Service Network (VISN 22) Director, followed by an overview of outreach activities, challenges and initiatives by the Director, Long Beach HCS and key staff members. The afternoon session will begin at 1 p.m. with presentations from the Veteran Services Organizations who will discuss the needs, concerns and outreach required to serve the Long Beach minority communities. Beginning at 2:30 p.m. the Committee will tour the Villages of Cabrillo located at 2001 River Avenue., Long Beach. In the evening, from 6:30 p.m. to 8:30 p.m., a town hall meeting will be held at the Long Beach HCS, Pantages Theatre located at 5901 7th Street, 2nd Floor, Long Beach. This will be the final Committee meeting and the members will adjourn at the conclusion of this town hall meeting.

The Committee will accept written comments from interested parties on issues outlined in the meeting agenda, as well as other issues affecting minority veterans. Such comments should be referred to the Committee at the following address: Advisory Committee on Minority Veterans, Center for Minority Veterans (OOM), U.S. Department of Veterans Affairs, 810 Vermont Avenue, NW., Washington, DC 20420.

For additional information about the meeting, please contact Ms. Elizabeth Olmo at (202) 273-6708.

Dated: March 8, 2006.
By Direction of the Secretary.
E. Philip Riggin,
Committee Management Officer.

[FR Doc. 06-2527 Filed 3-15-06; 8:45 am]

BILLING CODE 8320-01-M